DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomic Assessment of the Proposed Wisconsin-Lake Michigan National Marine Sanctuary Region.

OMB Control Number: 0648-XXXX.

Form Number(s): None.

Type of Request: Regular (request for a new information collection).

Number of Respondents: 4,200.

Average Hours per Response: 30 minutes.

Burden Hours: 2,100.

Needs and Uses: This is a randomized household survey of Wisconsin state residents who recreate in the proposed sanctuary area. This study will:

• Estimate the economic contribution of recreational expenditures;

• document the spatial distribution and intensity of recreational activities;

• document and assess awareness and importance of maritime heritage;

• assess respondents' awareness and perception of key resources and related management issues; and

• develop demographic profiles of recreational users of the study region.

This research will support the sanctuary's long-term management plan, provide the foundation for monitoring change over time, as well as provide baseline information to help inform local coastal zone management and planning to enhance access to Lake Michigan.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 6, 2018.
Sarah Brabson,
NOAA PRA Clearance Officer.

[FR Doc. 2018-04728 Filed 3-8-18; 8:45 am]

BILLING CODE 3510-JE-P